ENVIRONMENTAL PROTECTION AGENCY

40 CFR Part 52

[EPA-R09-OAR-2014-0256; FRL-9935-66-Region 9]

Approval and Promulgation of Implementation Plans; Arizona; Phased Discontinuation of Stage II Vapor Recovery Program

AGENCY: Environmental Protection Agency (EPA).

ACTION: Withdrawal of direct final rule.

SUMMARY: Due to the receipt of adverse comments, the Environmental Protection Agency (EPA) is withdrawing the September 2, 2015 direct final rule that approves a state implementation plan (SIP) revision related to the removal of “Stage II” vapor recovery equipment at gasoline dispensing facilities in the Phoenix-Mesa area. The EPA will address the comments in a subsequent final action based upon the proposed rulemaking action, also published on September 2, 2105. The EPA will not institute a second comment period on this action.

DATES: The direct final rule published at 80 FR 53001 on September 2, 2015 is withdrawn, effective October 27, 2015.

FOR FURTHER INFORMATION CONTACT: Jeffrey Buss, Air Planning Office (AIR-2), U.S. Environmental Protection Agency, Region IX, 75 Hawthorne, San Francisco, California 94105; (415) 947-4152; buss.jeffrey@epa.gov.

SUPPLEMENTARY INFORMATION: On September 2, 2015 (80 FR 53001), the EPA published a direct final rule approving a SIP revision submitted by the Arizona Department of Environmental Quality (ADEQ). The revision provides for the phased removal of Stage II vapor recovery equipment at gasoline dispensing facilities in the Phoenix-Mesa area. Specifically, the revision eliminates the requirement to install and operate such equipment at new gasoline dispending facilities, and provides for the phased removal of such equipment at existing gasoline dispensing facilities from October 2016 through September 2018. In the direct final rule, the EPA stated that if adverse comments were received by October 2, 2015, the EPA would publish a timely withdrawal of the direct final rule and address the comments in a subsequent final rule. The EPA received adverse comments and is therefore withdrawing the direct final rule. The EPA will address these comments in a separate final action based on the proposed action also published on September 2, 2015 (80 FR 53086). The EPA will not open a second comment period for this action.

List of Subjects in 40 CFR Part 52

Environmental protection, Air pollution control, Incorporation by reference, Intergovernmental relations, Ozone, Reporting and recordkeeping requirements, Volatile organic compounds.

Dated: September 28, 2015.
Jared Blumenfeld,
Regional Administrator, Region IX.

Accordingly, the amendment to 40 CFR 52.120 which published in the Federal Register on September 2, 2015 (80 FR 53001) on page 53007 is withdrawn as of October 27, 2015.

[FR Doc. 2015-27028 Filed 10-26-15; 8:45 am]

BILLING CODE 6560-50-P